DEPARTMENT OF THE INTERIOR

Bureau of Land Management

[NV-065-5870-EU; N-76426; 8-08807; TAS: 14X5260]

Notice of Realty Action: Direct (Non-Competitive) Sale of Public Lands, Nye County, NV

AGENCY: Bureau of Land Management, Interior.

ACTION: Notice.

SUMMARY: One parcel of public land (N-76426) located in Beatty, Nevada, and totaling 0.46 acres, has been examined and found suitable for disposal utilizing direct sale procedures. The authority for the sale is under Sections 203 and 209 of the Federal Land Policy and Management Act of 1976 (FLPMA), 43 U.S.C. 1713 and 1719.

DATES: Interested parties may submit written comments to the Bureau of Land Management (BLM) regarding the proposed sale on or before March 17, 2008.

ADDRESSES: Mail written comments to the BLM Assistant Field Manager, Tonopah Field Station, 1553 South Main Street, P.O. Box 911, Tonopah, NV 89049.

FOR FURTHER INFORMATION CONTACT: Alan Buehler, (775) 482-7800. For general information on BLM's public land sale procedures, refer to the following Web address: http://www.blm.gov/wo/st/en.html.

SUPPLEMENTARY INFORMATION: The sale parcel is located in Southern Nye County, section 6, within the most southeast corner section and touches the southeast corner at one point. A portion of the parcel lies within the Nevada Department of Transportation (Nev 042808) right-of-way for United States (U.S.) Highway 95.

The following described public land is being considered for sale:

Mount Diablo Meridian, Nevada

T. 12 S., R. 47 E.,

Sec. 6, lot 9.

The area described contains 0.46 acres, more or less.

This parcel of public land is proposed for sale to the Stagecoach Hotel and Casino, owned by Edward Ringle of Beatty, Nevada at no less than the appraised fair market value (FMV) of $1,300, as determined by the authorized officer after appraisal. An appraisal report has been prepared by a State-certified appraiser for the purposes of establishing the FMV.

Consistent with Section 203 of FLPMA, a tract of public land may be sold where, as a result of approved land use planning, the sale of the tract meets the disposal criteria of that section. The lands described above are identified as suitable for disposal in the BLM Tonopah Resource Management Plan (RMP) approved on October 2, 1997. The proposed disposal action is consistent with the objectives, goals, and decisions of the RMP.

The disposal (sale) of the parcel would serve an important public objective by resolving the management costs of an inadvertent unauthorized use of the public lands. As such, these lands meet the criteria under 43 CFR 2710.0-3(a)(3) which states “Such tract, because of its location or other characteristics is difficult and uneconomic to manage as part of the public lands and is not suitable for management by another Federal department or agency.” The sale of these lands meet the criteria under 43 CFR 2711.3-3(a) for direct sale, to be used where necessary to protect existing equities in the land, to resolve inadvertent unauthorized use and occupancy of the lands. A small portion of the hotel/casino's northeast corner has expanded onto the subject land. The subject parcel is being used to house the hotel/casino's propane tanks and waste disposal dumpsters, as well as for storage, parking lot, and delivery service. The size of the unauthorized use has been reduced to the smallest aliquot part identified through development of a supplemental plat. These lands are not required for Federal purposes. Direct sale would not change the status quo in that no other land uses are expected for these lands.

The BLM prepared a preliminary Environmental Assessment (EA) and provided a 30-day comment period as part of its public involvement. All comments received have been considered and incorporated into the EA and Decision Record. The EA (NV065-EA07-117), Decision Record, Environmental Site Assessment, map, and approved appraisal report covering the proposed sale, are available for review at the BLM Tonopah Field Station.

Minerals for this parcel will be reserved in accordance with BLM's approved Mineral Potential Report dated January 18, 2005. Information pertaining to the reservation of minerals specific to the parcel is located in the case file and available for public review at the BLM Tonopah Field Station.

Publication of this Notice of Realty Action in the Federal Register segregates the subject lands from all appropriations under the public land laws, including the general mining and mineral laws, except the sale provisions of FLPMA. Upon publication of this Notice of Realty Action and until completion of the sale, the BLM is no longer accepting land use applications affecting the identified public land, except applications for the amendment of previously filed right-of-way applications or existing authorizations to increase the term of the grants in accordance with 43 CFR 2807.15 and 2886.15. The segregation will terminate upon issuance of the patent, upon publication in the Federal Register of a termination of the segregation or February 1, 2010, whichever occurs first.

Terms and Conditions of Sale:

The patent issued would contain the following numbered reservations, covenants, terms and conditions:

1. A right-of-way thereon for ditches and canals constructed by authority of the United States, Act of August 30, 1890 (43 U.S.C. 945);

2. Oil, gas, and geothermal resources are reserved on the land sold; permittees, licensees, and lessees retain the right to prospect for, mine, and remove the minerals owned by the United States under applicable law and any regulations that the Secretary of the Interior may prescribe, including all necessary access and exit rights;

3. Those rights for highway purposes which have been granted to Nevada Department of Transportation, its successors and assigns, by right-of-way Nev 042808, pursuant to the Act of August 27, 1958, 72 Stat. 916; 23 U.S.C. 317, for United States Highway 95, extending from Beatty to Goldfield, Nevada;

4. All valid existing rights;

5. The patentee, by accepting patent, agrees to indemnify, defend, and hold the United States harmless from any costs, damages, claims, causes of action, penalties, fines, liabilities, and judgments of any kind arising from the past, present, or future acts or omissions of the patentee, its employees, agents, contractors, lessees, or any third-party arising out of or in connection with the patentee's use, occupancy, or operations on the patented real property resulting in: (1) Violations of Federal, State, and local laws and regulations that are now, or in the future become, applicable to the real property; (2) Judgments, claims, or demands of any kind assessed against the United States; (3) Costs, expenses, or damages of any kind incurred by the United States; (4) Releases or threatened releases of solid or hazardous waste(s) and/or hazardous substance(s), pollutant(s) or containment(s), and/or petroleum product or derivative of a petroleum product, as defined by Federal and State environmental laws, off, on, into, or under land, property, and other interests of the United States; (5) Other activities by which solid or hazardous substance(s), pollutant(s) or contaminant(s), and/or petroleum product or derivative of a petroleum product, or waste(s), as defined by Federal and State environmental laws, are generated, released, stored, used, or otherwise disposed of on the patented real property, and any cleanup response, remedial action, or other actions related in any manner to said solid or hazardous substance(s) or waste(s), pollutant(s) or contaminant(s), and/or petroleum product or derivative of a petroleum product; or (6) natural resource damages as defined by Federal and State law. This covenant shall be construed as running with the patented real property and may be enforced by the United States in a court of competent jurisdiction; and

6. Pursuant to the requirements established by section 120(h) of the Comprehensive Environmental Response, Compensation and Liability Act (CERCLA), (42 U.S.C. 9620(h)), as amended by the Superfund Amendments and Reauthorization Act of 1988, (100 Stat.1670), notice is hereby given that the above-described lands have been examined and no evidence was found to indicate that any hazardous substances had been stored for one year or more, nor had any hazardous substances been disposed of or released on the subject property.

No representation, warranty or covenant of any kind, express or implied, will be given or made by the United States, its officers or employees, as to access to or from the above described parcel of land, the title to the land, whether or to what extent the land may be developed, its physical condition or its past, present or potential uses, and the conveyance of any such parcel will not be on a contingency basis. It is the buyer's responsibility to be aware of all applicable Federal, State and local government policies and regulations that would affect the subject lands. It is also the buyer's responsibility to be aware of existing or prospective uses of nearby properties. Any land lacking access from a public road or highway will be conveyed as such, and future access acquisition will be the responsibility of the buyer.

In the event of a sale, the unreserved mineral interests will be conveyed simultaneously with the sale of the land. These unreserved mineral interests have been determined to have no known mineral value pursuant to 43 CFR 2720.0-6 and 2720.2(a). Acceptance of the sale offer will constitute an application for conveyance of those unreserved mineral interests. The purchaser will be required to pay a $50 non-refundable filing fee for conveyance of the available mineral interests. The purchaser will have 30 days from the date of receiving the sale offer to accept the offer and to submit a deposit of 20 percent of the purchase price, the $50 filing fee for conveyance of mineral interests, and for payment of publication costs. The purchaser must remit the remainder of the purchase price within 180 days from the date the sale offer is received. Payments must be by certified check, postal money order, bank draft or cashiers check payable to the U.S. Department of the Interior—BLM. Failure to meet conditions established for this sale will void the sale and any monies received will be forfeited.

Public Comments

The subject parcel of land will not be offered for sale prior to the 60-day publication of this Notice of Realty Action. For a period until March 17, 2008, interested parties may submit written comments to the BLM Tonopah Field Station. Only written comments submitted by postal service or overnight mail will be considered as properly filed. Facsimiles, telephone calls, and e-mails are unacceptable means of notification.

Before including your address, phone number, e-mail address, or other personal identifying information in your comment, you should be aware that your entire comment, including your personal identifying information, may be made publicly available at any time. While you can ask us in your comment to withhold your personal identifying information from public review, we cannot guarantee that we will be able to do so.

Any adverse comments regarding the proposed sale will be reviewed by the BLM Nevada State Director, who may sustain, vacate, or modify this realty action and issue a final determination. In the absence of timely filed objections, this realty action will become the final determination of the Department of the Interior.

(Authority: 43 CFR 2711.1-2)

Dated: January 16, 2008.
Thomas J. Seley,
Tonopah Assistant Field Manager.

[FR Doc. E8-1568 Filed 1-29-08; 8:45 am]

BILLING CODE 4310-HC-P